DEPARTMENT OF STATE

[Public Notice: 9353]

Additional Culturally Significant Objects Imported for Exhibition Determinations: “Power and Pathos: Bronze Sculpture of the Hellenistic World” Exhibition

ACTION: Notice; correction.

SUMMARY: On May 21, 2015, notice was published on pages 29379 and 29380 of the Federal Register (volume 80, number 98) of determinations made by the Department of State pertaining to certain objects imported for temporary display in the exhibition “Power and Pathos: Bronze Sculpture of the Hellenistic World.” The referenced notice is corrected here to include additional objects as part of the exhibition. Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236-3 of August 28, 2000 (and, as appropriate, Delegation of Authority No. 257 of April 15, 2003), I hereby determine that the additional objects to be included in the exhibition “Power and Pathos: Bronze Sculpture of the Hellenistic World,” imported from abroad for temporary exhibition within the United States, are of cultural significance. The additional objects are imported pursuant to loan agreements with the foreign owner or custodian. I also determine that the exhibition or display of the additional exhibit objects at the National Gallery of Art, Washington, District of Columbia, from on or about December 13, 2015, until on or about March 20, 2016, and at possible additional exhibitions or venues yet to be determined, is in the national interest. I have ordered that Public Notice of these Determinations be published in the Federal Register.

FOR FURTHER INFORMATION CONTACT: For further information, including a list of the additional imported objects, contact the Office of Public Diplomacy and Public Affairs in the Office of the Legal Adviser, U.S. Department of State (telephone: 202-632-6471; email: section2459@state.gov). The mailing address is U.S. Department of State, L/PD, SA-5, Suite 5H03, Washington, DC 20522-0505.

Dated: November 18, 2015.
Kelly Keiderling,
Principal Deputy Assistant Secretary, Bureau of Educational and Cultural Affairs, Department of State.

[FR Doc. 2015-29899 Filed 11-23-15; 8:45 am]

BILLING CODE 4710-05-P